DEPARTMENT OF TRANSPORTATION

Surface Transportation Board

[Ex Parte No. 333]

Sunshine Act Meeting

TIME AND DATE: 10 a.m., September 24, 2004.

PLACE: The Board's Hearing Room, Surface Transportation Board, 1925 K Street, NW., Washington, DC 20423.

STATUS: The Board will meet to discuss among themselves the following agenda items. Although the conference is open for public observation, no public participation is permitted.

MATTERS TO BE CONSIDERED: STB Docket No. 42056, Texas Municipal Power Agency v. The Burlington Northern and Santa Fe Railway Company.

STB Docket No. 42083, Granite State Concrete Co., Inc. and Milford-Bennington Railroad Company, Inc. v. Boston and Maine Corporation and Springfield Terminal Railway Company.

STB Docket No. 42075, Engelhard Corporation—Petition for Declaratory Order—Springfield Terminal Railway Company and Consolidated Rail Corporation.

STB Finance Docket No. 34486, Ohio Valley Railroad Company—Acquisition and Operation Exemption—Harwood Properties, Inc.

STB Finance Docket No. 34395, City of Peoria IL, d/b/a Peoria, Peoria Heights and Western Railroad—Construction of Connecting Track Exemption—in Peoria County, IL.

STB Docket No. 42085, Climate Master Inc. and International Environmental, Inc.—Petition for Declaratory Order—Certain Rates and Practices of Trans Tech Solutions, Inc., F&M Bank, and Midland Transportation Co.

STB Ex Parte No. 542 (Sub-No. 11), Regulations Governing Fees for Services Performed in Connection with Licensing and Related Services—2004 Update.

STB Ex Parte No. 638, Procedures to Expedite Resolution of Rate Challenges to be Considered Under the Stand-Alone Cost Methodology.

STB Ex Parte No. 652, Revision of Exemption Authority Citations.

STB Ex Parte No. 536 (Sub-No. 17), Semiannual Regulatory Agenda.

FOR FURTHER INFORMATION CONTACT: A. Dennis Watson, Office of Congressional and Public Services, Telephone: (202) 565-1596 FIRS: 1-800-877-8339.

Dated: September 16, 2004.
Vernon A. Williams,
Secretary.

[FR Doc. 04-21288 Filed 9-17-04; 1:00 pm]

BILLING CODE 4915-01-P